ENVIRONMENTAL PROTECTION AGENCY

[ER-FRL-6686-3]

Environmental Impact Statements; Notice of Availability Responsible Agency:

Office of Federal Activities, General Information (202) 564-7167 or http://www.epa.gov/compliance/nepa/.

Weekly receipt of Environmental Impact Statements

Filed 04/16/2007 Through 04/20/2007

Pursuant to 40 CFR 1506.9.

EIS No. 20070157, Final EIS, MMS, 00, Outer Continental Shelf Oil & Gas Leasing Program: 2007-2012, Exploration and Development Offshore Marine Environment and Coastal Counties of AL, AK, DE, FL, LA, MD, MS, NJ, NC, TX and VA, Wait Period Ends: 05/29/2007, Contact: James F. Bennett 703-787-1660.

EIS No. 20070158, Final EIS, FAA, AK, Juneau International Airport, Proposed Development Activities to Enhance Operations Safety, Facilitate Aircraft Alignment, U.S. Army COE Section 404 Permit, City and Borough of Juneau, AK, Wait Period Ends: 05/29/2007, Contact: Patti Sullivan 907-271-5454.

EIS No. 20070159, Draft EIS, COE, FL, Central and Southern Florida Project, Comprehensive Everglades Restoration Plan, Caloosahatchee River (C-43) West Basin Storage Reservoir Project, Restoration of the Ecosystem in Caloosahatchee Estuary, Lake Okeechobee, FL, Comment Period Ends: 06/11/2007, Contact: Susan Conner 904-232-1782.

EIS No. 20070160, Fifth Draft Supplement, NOA, NC, Atlantic Sea Scallop Fishery Management Plan (FMP), Amendment 11, Implementation to Control Capcaity and Mortality in the General Category Scallop Fishery, Gulf of Maine, Georges Bank, NC, Comment Period Ends: 06/11/2007, Contact: Patricia A. Kurkul 978-281-9250.

EIS No. 20070161, Final EIS, IBR, 00, Upper Rio Grande Basin Water Operations Review, Preferred Alternative E-3, To Develop an Integrated Plan for Water Operations at the Existing Facilities, NM, CO and TX, Wait Period Ends: 05/29/2007, Contact: Valda Terauds 505-462-3584.

EIS No. 20070162, Final EIS, FRC, LA, Kinder Morgan Louisiana Pipeline Project, Natural Gas Pipeline Facilities, Construction and Operation, U.S. Army COE Section 10 and 404 Permits, Evangeline, Cameron, and Acadia Parishes, LA, Wait Period Ends: 05/29/2007, Contact: Andy Black 1-866-208-3372.

EIS No. 20070163, Draft EIS, BLM, ID, Eastside Township Fuels and Vegetation Project, Address the Forest Health, Fuels, Safety, and Watershed Issues, Elk City, Idaho County, ID, Comment Period Ends: 06/11/2007, Contact: Robbin Boyce 208-962-3594.

Amended Notices

EIS No. 20070055, Draft EIS, AFS, ID, Idaho Cobalt Project, Development of Two Underground Mines, a Waste Disposal Site and Associated Facilities, Approval of Plan-of-Operation, Salmon-Cobalt Ranger District, Salmon-Challis National Forest, Lemhi County, ID, Comment Period Ends: 05/24/2007, Contact: Ray Henderson 208-756-5231 Revision to FR Notice Published 02/23/2007: Extending comment period from 04/24/2007 to 05/24/2007.

EIS No. 20070063, Draft Supplement, USN, 00, Introduction of F/A 18 E/F (Super Hornet) Aircraft, Updated Information, Construction and Operation of an Outlying Landing Field, Naval Air Station (NAS) Oceana, VA; Marine Corps Air Station (MCAS) Cherry Point, NC, Comment Period Ends: 05/09/2007, Contact: Francine Blend 757-322-4332. Revision to FR Notice Published 02/23/2007: Correction to Extending Comment Period from 05/19/2007 to 05/09/2007.

EIS No. 20070097, Draft EIS, NOA, 00, Programmatic—Marine Mammal Health and Stranding Response Program (MMHSRP), Day-to-Day Operation on Stranding, Response, Rehabilitation, Release, and Disentangelement Activities, Comment Period Ends: 05/30/2007, Contact: David Cottingham 301-713-2322. Revision of FR Notice Published 3/16/2007: Extending Comment Period from 04/30/2007 to 05/30/2007.

EIS No. 20070146, Final EIS, COE, CA, Adoption—Folsom Dam Safety and Flood Damage Reduction Project, Addressing Hydrologic, Seismic, Static, and Flood Management Issues, Sacramento, El Dorado and Placer Counties, CA, Wait Period Ends: 05/21/2007, Contact: Jane Rinck 916-557-6715 Revision of FR Notice Published 04/20/2007: Correction to Wait Period from 05/21/2007 to No Wait Period.

EIS No. 20070155, Draft EIS, COE, GA, Fort Benning U.S. Army Infantry Center, Base Realignment and Closure (BRAC) 2005 and Transformation Actions, Implementation, Chattahoochee and Muscogee Counties, GA, Comment Period Ends: 06/04/2007, Contact: John Brent 706-545-2180. Revision of FR Notice Published on 04/20/07: Correction to EIS Title.

Dated: April 24, 2007.
Robert W. Hargrove,
Director, NEPA Compliance Division, Office of Federal Activities.

[FR Doc. E7-8106 Filed 4-26-07; 8:45 am]

BILLING CODE 6560-50-P